DEPARTMENT OF TRANSPORTATION

Federal Aviation Administration

14 CFR Part 39

[Docket No. 2000-CE-23-AD; Amendment 39-13310; AD 2003-19-07]

RIN 2120-AA64

Airworthiness Directives; Eagle Aircraft (Malaysia) Sdn. Bhd. Model 150B Airplanes

AGENCY: Federal Aviation Administration, DOT.

ACTION: Final rule.

SUMMARY: This amendment adopts a new airworthiness directive (AD) that applies to certain Eagle Aircraft (Malaysia) Sdn. Bhd. (Eagle) Model 150B airplanes. This AD requires you to modify the canard rear spar and the rear spar attachment bracket. This AD is the result of mandatory continuing airworthiness information (MCAI) issued by the airworthiness authority for Australia. The type design responsibility has been transferred from Australia to Malaysia since the release of the MCAI. The actions specified by this AD are intended to prevent detachment of the rear spar bracket from the canard rear spar, which could result in failure of the canard rear spar. Such failure could lead to loss of control of the airplane.

DATES: This AD becomes effective on November 3, 2003.

The Director of the Federal Register approved the incorporation by reference of certain publications listed in the regulations as of November 3, 2003.

ADDRESSES: You may get the service information referenced in this AD from Eagle Aircraft (Malaysia) Sdn. Bhd., Composites Technology City, Batu Barendam Airport, 75350 Batu Barendam, Melaka, Malaysia. You may view this information at the Federal Aviation Administration (FAA), Central Region, Office of the Regional Counsel, Attention: Rules Docket No. 2000-CE-23-AD, 901 Locust, Room 506, Kansas City, Missouri 64106; or at the Office of the Federal Register, 800 North Capitol Street, NW., suite 700, Washington, DC.

FOR FURTHER INFORMATION CONTACT: Fredrick A. Guerin, Aerospace Engineer, FAA, Los Angeles Aircraft Certification Office, 3960 Paramount Blvd., Lakewood, CA 90712; telephone: (562) 627-5232; facsimile: (562) 627-5210.

SUPPLEMENTARY INFORMATION:

Discussion

What Events Have Caused This AD?

The Civil Aviation Safety Authority (CASA), which is the airworthiness authority for Australia, notified FAA that an unsafe condition may exist on certain Eagle Model 150B airplanes. The CASA reports that the rear spar attachment bracket does not meet required strength specifications for installation on composite airplanes. These strength specifications are necessary to ensure that the rear spar bracket does not detach from the canard rear spar.

The manufacturer has redesigned these parts in order to meet required strength specifications.

What Is the Potential Impact if FAA Took No Action?

This condition, if not corrected, could result in failure of the canard rear spar. Failure of the canard rear spar could result in loss of control of the airplane.

Has FAA Taken Any Action to This Point?

We issued a proposal to amend part 39 of the Federal Aviation Regulations (14 CFR part 39) to include an AD that would apply to certain Eagle Model 150B airplanes. This proposal was published in the Federal Register as a notice of proposed rulemaking (NPRM) on June 23, 2003 (68 FR 37102). The NPRM proposed to require you to modify the canard rear spar and the rear spar attachment bracket.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

How Does the Revision to 14 CFR Part 39 Affect This AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How Many Airplanes Does This AD Impact?

We estimate that this AD affects 7 airplanes in the U.S. registry.

What Is the Cost Impact of This AD on Owners/Operators of the Affected Airplanes?

We estimate the following costs to accomplish the modification:

Labor cost | Parts cost | Total cost per airplane | Total cost on U.S. operators
4 workhours × $60 per hour = $240 | $135 per airplane | $240 + $135 = $375 per airplane | $375 × 7 = $2,625.

The modification to the rear spar and the rear spar attachment bracket will require 25 hours for cure and post cure time.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-19-07 Eagle Aircraft (Malaysia) SDN. BHD.: Amendment 39-13310; Docket No. 2000-CE-23-AD.

(a) What airplanes are affected by this AD? This AD affects Model 150B airplanes, serial numbers 001 through 003 and 005 through 030, that are certificated in any category.

(b) Who must comply with this AD? Anyone who wishes to operate any of the airplanes identified in paragraph (a) of this AD must comply with this AD.

(c) What problem does this AD address? The actions specified by this AD are intended to prevent detachment of the rear spar bracket from the canard rear spar, which could result in failure of the canard rear spar. Such failure could lead to loss of control of the airplane.

(d) What actions must I accomplish to address this problem? To address this problem, you must accomplish the following:

Actions | Compliance | Procedures
(1) Modify the canard rear spar by adding additional laminated plies; modifying the rear spar bracket; replacing the existing console support bracket with a new part (part number (P/N) 3100D41-001); modifying the Vinikor cap; and installing an additional support bracket (P/N 581B131-03) and rear spar bracket cap (P/N EO(VAR) 15566-01 or 581B131-02, as applicable) | Within the next 100 hours time-in-service (TIS) after November 3, 2003 (the effective date of this AD), unless already accomplished | Do the modification in accordance with Eagle Service Bulletin 1074, Revision 1, dated October 19, 1999, except as noted in paragraph (d)(2) of this AD
(2) The following instructions in the service bulletin are incorrect and you must use the information provided in this AD | As of November 3, 2003 (the effective date of this AD)
(i) The instructions for installing console support bracket (P/N 3100D41-01) as specified in paragraph 9.6.9 of Eagle Service Bulletin 1074, Revision 1, dated October 19, 1999, are incorrect. The correct instructions are to install a new console support bracket (P/N 3100D41-01) instead of re-installing the removed bracket. The information contained in this AD takes precedence over the manufacturer's service bulletin; and
(ii) The rear spar bracket support P/N specified in paragraph 9.7.2 of Eagle Service Bulletin 1074, Revision 1, dated October 19, 1999, is incorrect. The correct P/N is 581B131-03. The information contained in this AD takes precedence over the manufacturer's service bulletin.

(e) Can I comply with this AD in any other way? To use an alternative method of compliance or adjust the compliance time, use the procedures in 14 CFR 39.19. Send these requests to the Manager, Los Angeles Aircraft Certification Office (ACO). For information on any already approved alternative methods of compliance, contact Fredrick A. Guerin, Aerospace Engineer, FAA, Los Angeles Aircraft Certification Office, 3960 Paramount Blvd., Lakewood, CA 90712; telephone: (562) 627-5232; facsimile: (562) 627-5210.

(f) Are any service bulletins incorporated into this AD by reference? Actions required by this AD must be done in accordance with Eagle Service Bulletin 1074, Revision 1, dated October 19, 1999. The Director of the Federal Register approved this incorporation by reference under 5 U.S.C. 552(a) and 1 CFR part 51. You may get copies from Eagle Aircraft Eagle Aircraft (Malaysia) Sdn. Bhd., Composites Technology City, Batu Barendam Airport, 75350 Batu Barendam, Melaka, Malaysia. You may view copies at the FAA, Central Region, Office of the Regional Counsel, 901 Locust, Room 506, Kansas City, Missouri, or at the Office of the Federal Register, 800 North Capitol Street, NW., suite 700, Washington, DC.

Note: The subject of this AD is addressed in Australian AD No. X-TS/3, dated December 24, 1999.

(g) When does this amendment become effective? This amendment becomes effective on November 3, 2003.

Issued in Kansas City, Missouri, on September 10, 2003.
Frank P. Paskiewicz,
Acting Manager, Small Airplane Directorate, Aircraft Certification Service.

[FR Doc. 03-23677 Filed 9-22-03; 8:45 am]

BILLING CODE 4910-13-P